NUCLEAR REGULATORY COMMISSION

[Docket Nos. 50-334 and 50-412]

Pennsylvania Power Company, Ohio Edison Company, the Cleveland Electric Illuminating Company, the Toledo Edison Company, FirstEnergy Nuclear Operating Company; Notice of Partial Withdrawal of Application for Amendment to Facility Operating License

The U.S. Nuclear Regulatory Commission (the Commission) has granted the request of FirstEnergy Nuclear Operating Company, et al. (the licensee), to partially withdraw its application for proposed amendment to Facility Operating License Nos. DPR-66 and NPF-73 for the Beaver Valley Power Station, Unit Nos. 1 and 2 (BVPS-1 and 2), located in Beaver County, Pennsylvania.

The request to review related Updated Final Safety Analysis Report (UFSAR) pages submitted with the licensee's February 14, 2003, submittal was withdrawn in its March 31, 2003, submittal. The licensee's request to modify TS 3.6.2.2, “Containment Recirculation Spray System,” by reducing the required recirculation spray heat exchanger minimum river/service water flow rate in surveillance requirement (SR) 4.6.2.2.e.3, was withdrawn by its March 19, 2003, letter. The changes were no longer necessary as Amendment Nos. 252 and 132 for BVPS-1 and BVPS-2, respectively, relocated SR 4.6.2.2.e.3 to each unit's UFSAR. The licensee's requested changes related to conversion of the BVPS-1 and 2 containments from subatmospheric to atmospheric operating conditions was withdrawn by its September 5, 2003, submittal.

The Commission had previously issued a Notice of Consideration of Issuance of Amendment published in the Federal Register on December 10, 2002 (67 FR 75876). However, by letters dated March 19 and 31, and September 5, 2003, the licensee withdrew the portions of the proposed changes as stated above.

For further details with respect to this action, see the application for amendment dated June 5, 2002, as supplemented August 19 and December 2, 2002, and January 30, February 14, March 19 and 31, June 6 and 24, and September 5, 2003. The licensee's letters dated March 19 and 31, and September 5, 2003, withdrew a portion of the application for license amendment. Documents may be examined, and/or copied for a fee, at the NRC's Public Document Room (PDR), located at One White Flint North, Public File Area O1 F21, 11555 Rockville Pike (first floor), Rockville, Maryland. Publicly available records will be accessible electronically from the Agencywide Documents Access and Management Systems (ADAMS) Public Electronic Reading Room on the internet at the NRC Web site, http://www.nrc.gov/reading-rm/adams/html. Persons who do not have access to ADAMS or who encounter problems in accessing the documents located in ADAMS, should contact the NRC PDR Reference staff by telephone at 1-800-397-4209, or 301-415-4737 or by email to pdr@nrc.gov.

Dated at Rockville, Maryland, this 10th day of September, 2003.
For the Nuclear Regulatory Commission.
Timothy G. Colburn,
Senior Project Manager, Section 1, Project Directorate I, Division of Licensing Project Management, Office of Nuclear Reactor Regulation.

[FR Doc. 03-23689 Filed 9-16-03; 8:45 am]

BILLING CODE 7590-01-P